DEPARTMENT OF HEALTH AND HUMAN SERVICES

Substance Abuse and Mental Health Services Administration

Agency Information Collection Activities: Submission for OMB Review; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-0361 or email Carlos.Graham@samhsa.hhs.gov.

Comments are invited on: (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of Communities Talk To Prevent Alcohol and Other Drug Misuse (Formerly Communities Talk To Prevent Underage Drinking)—(OMB No. 0930-0288)—Revision

The Substance Abuse and Mental Health Services Administration, Center for Substance Abuse Prevention (SAMHSA/CSAP) is requesting a revision from the Office of Management and Budget (OMB) for information collection regarding the Assessment of Communities Talk to Prevent Alcohol and Other Drug Misuse, which is implemented by the Substance Use Disorder Prevention Engagement Initiatives (SUDPEI) within CSAP. Communities Talk activities are grassroots activities that raise awareness of the public health dangers of substance misuse and engage communities in evidence-based prevention, particularly to individuals aged 12-25 years old. In this survey, substance use disorder (SUD) questions refers to any alcohol or drugs used in the 12 months prior to the survey and the language “alcohol and other drug misuse” will be used to ask questions about SUDs throughout the survey. Alcohol misuse includes any underage use of alcohol. Other drug misuse includes use of marijuana, cocaine (including crack), heroin, hallucinogens, inhalants, methamphetamine, and any use of prescription stimulants, tranquilizers or sedatives (e.g., benzodiazepines), and pain relievers.¹ The most recent data collection was reinstated under OMB No. 0930-0288, Assessment of the Town Hall Meetings on Underage Drinking Prevention, which expires on May 31, 2025.

¹ Substance Abuse and Mental Health Services Administration. (2022). Highlights for the 2021 National Survey on Drug Use and Health. https://www.samhsa.gov/data/sites/default/files/2022-12/2021NSDUHFFRHighlights092722.pdf.

Changes

Under the most recent approval, the Organizer Survey consisted of 14 items. Under this revision, the Organizer Survey includes 12 items about the Communities Talk initiative and how communities might be carrying out evidence-based strategies to prevent alcohol and other drug misuse. The following table provides a summary of the changes that were made to the instrument.

Current question/item | Changes made
Burden statement | Updated with language provided by SAMHSA to include “alcohol and other drug misuse” verbiage: `This information is being collected to assist the Substance Abuse and Mental Health Services Administration (SAMHSA) for the purpose of program monitoring of the Communities Talk to Prevent Alcohol and Other Drug Misuse initiative. This voluntary information collected will be used at an aggregate level to assess the Communities Talk stipend recipients' experiences with the events and alcohol and other drug misuse prevention activities deployed by their organizations or institutions. Under the Privacy Act of 1974, any personally identifying information obtained will be kept private to the extent of the law. An agency may not conduct or sponsor, and a person is not required to respond to, a collection of information unless it displays a currently valid Office of Management and Budget (OMB) control number. The OMB control number for this project is 0930-0288. Public reporting burden for this collection of information is estimated to average 15 minutes per encounter, including the time for reviewing instructions, searching existing data sources, gathering and maintaining the data needed, and completing and reviewing the collection of information. Send comments regarding this burden estimate or any other aspect of this collection of information, including suggestions for reducing this burden, to SAMHSA Reports Clearance Officer, 5600 Fishers Ln., Room 15 E57B, Rockville, MD 20857.'
Informed consent | Updated to include new “alcohol and other drug misuse” verbiage provided by SAMSHA: `The Substance Abuse and Mental Health Services Administration (SAMHSA) invites prevention specialists working individually or as part of a coalition to fill out this survey. A coalition refers to any group of individuals or organizations working together. This survey asks about your possible experiences with Communities Talk to Prevent Alcohol and Other Drug Misuse and how your community might be carrying out evidence-based strategies addressing alcohol and other drug misuse. Evidence-based strategies have been evaluated and found to have positive effects on the intended audiences. The survey should take approximately 15 minutes. Your participation is completely voluntary. You can stop at any time. Refusal to participate will not affect your employment, funding for your work, or result in any other penalty or loss of benefit. The evaluation team will keep your survey answers in a password-protected computer folder. It will be accessed only by the evaluation team. The evaluation team will summarize everyone's answers in a report. The evaluation team will keep your name and contact information separate from your answers. We collect your name and contact information only to monitor who has already completed the survey, as to not request more than one response per organization. The report will not identify you and the person documenting survey completions will not analyze the data. Your thoughts are very important. They will help SAMHSA improve how it supports community-based prevention efforts. If you have any questions, please contact Dr. Genevieve Martinez-Garcia or Sarah Caban, Study Administrators, at info@stopalcoholabuse.net. By continuing, you are consenting to participate in this survey on behalf of your coalition or you.'
q1—In your opinion, how important is underage drinking, and its consequences, to the residents of your community? | Replaced “underage drinking” verbiage with “alcohol and other drug misuse” verbiage.
q2—How many Communities Talk activities have ever taken place in your community? These events may have been primarily hosted by your organization or a different one | Question was reworded for clarity: “What is the total number of Communities Talk activities hosted in your community during this calendar year? These events may have been primarily hosted by your organization or a different one.”
q3—What was the total number of attendees at your Communities Talk event? (Estimates are okay.) | No modification.
q4—Evidence-based strategies have been evaluated and found to have positive effects on the intended audience. Certain advance preparation may or may not help professionals build their capacity to carry out any number of evidence-based strategies to prevent underage drinking in their community. Some of the preparation may be tied to Communities Talk, while some of the preparation may not be tied to Communities Talk. This question asks about any preparation for evidence-based strategies, other than hosting a Communities Talk activity. How much have you completed the following steps? | New q5; Replaced “underage drinking” verbiage with “alcohol and other drug misuse” verbiage; Added examples of evidence-based strategies.
q5—Have you used any material(s) from the Communities Talk website (www.stopalcoholabuse.gov/communitiestalk)? | New q6.
q5A—What material(s) from the Communities Talk website (www.stopalcoholabuse.gov/communitiestalk) have you used? | New q6A; Modified response options: removed “Registration Tutorial Video” and added “Prevention Event Planner web app”.
q6—Please rate your agreement with the following statement: I know how to use evidence-based approaches to carry out future underage drinking prevention activities | New q7; Replaced “underage drinking” verbiage with “alcohol and other drug misuse” verbiage.
q7—Prevention professionals take several steps as part of their evidence-based work. How confident are you that you can carry out the following tasks? | New q8; Replaced “underage drinking” verbiage with “alcohol and other drug misuse” verbiage; Added the following items under this question: “Acquire/get materials for priority populations.” “Collaborate with others to implement resources or programming.” “Work with my local legislators or policymakers to create laws and/or policies.”
q8—There are many ways to prevent underage drinking in a community. Different communities need different evidence-based strategies. SAMHSA wants to learn what works best for your community. Currently, which of the following activities are you or your organization collaborating with others on to prevent underage drinking in your community? | New q9; Replaced “underage drinking” verbiage with “alcohol and other drug misuse” verbiage; Added the following items under this question: “Prevent sales of other drugs at public events where youth are present.”
q9—A community's needs and its resources may change over time. In the future, how likely is it that you or your organization will plan or collaborate with others on the following activities to prevent substance use underage drinking in your community? | New q12; Replaced “underage drinking” verbiage with “alcohol and other drug misuse” verbiage; Added the following items under this question: “Prevent sales of other drugs at public events where youth are present.”
q10—Think about all of the Communities Talk activities that might have taken place in your community. How much do you agree with the following statements? | New q13; Replaced “underage drinking” verbiage with “alcohol and other drug misuse” verbiage.
q11—Do you have a report or something else (e.g., tables) that includes substance (mis)use data at the community level (e.g., incidences of use; activities or actions employed to prevent and combat underage drinking)? | New q14; Replaced “underage drinking” verbiage with “alcohol and other drug misuse” verbiage.
q11A—<IF Q11=Yes> Would you be willing to share the report with SAMHSA? | New q14A.
q11B—<IF Q11A=Yes> Please send the report to the following address: info@stopalcoholabuse.net [or] ICF Attn.: Communities Talk—Genevieve Martinez-Garcia 530 Gaither Rd, Suite 500, Rockville, MD 20857 | New q14B.
q12—How would you characterize the location where the Communities Talk event or activity was held? | New q15.
q13—Which of the following best describes your organization? | New q16.
q14—Which of the following best describes the primary audience(s) served by your organization? (Mark all that apply.) | New q17; Added the following response options: “Prevention specialists and volunteers” “Healthcare providers.”
<ALL ENDING> SAMHSA would like to contact you in about 1 year to get an update on prevention activities taking place in your community. Are you willing to be contacted in about 1 year to complete an online follow-up survey? | Item deleted.

Two new questions were added pertaining to the types of substance use topics used in alcohol and other drug misuse prevention activities (q4), types of organizations that respondents' organization, collaborates with (q10), and how many partners they engage with on activities monthly (q11).

The revisions were necessary to better align the data gathered to the short-term and long-term outcomes of the Communities Talk events and activities for organizers, specifically:

Short-Term

• Increase organization's efforts related to a holistic approach to substance use, beyond only underage drinking.

• Increase staff's perceived threat of alcohol and other drug misuse to residents of the community;

• Increase staff's knowledge related to using evidence-based approaches to carry out future alcohol and other drug misuse prevention activities;

• Increase staff's perceived efficacy of Communities Talk to enhance alcohol and other drug misuse prevention in the community;

• Increase staff's skills related to using evidence-based approaches to carry out future alcohol and other drug misuse prevention activities, specifically share information about alcohol and other drug misuse with others, host meetings or discussion groups; create committees, task forces, advisory boards, or other action groups; build coalitions; develop strategic plans; and advocate for policies;

• Increase staff's self-efficacy related to using evidence-based approaches to carry out future alcohol and other drug misuse prevention activities; and

• Increase staff's intention related to using evidence-based approaches to carry out future alcohol and other drug misuse prevention activities.

Long-Term

• Increase staff's use of evidence-based approaches to carry out future alcohol and other drug misuse prevention activities.

• Reduce burden on the respondents by removing the option to be contacted for a follow-up assessment.

Organizer Survey—Follow-Up

The Organizer Survey—Follow-Up has been discontinued in alignment with SAMHSA's focus on annual assessments of Communities Talk activities, instead of bi-annual assessments. SAMHSA/CSAP will be responsible for collecting, compiling, analyzing, and reporting on information requested in these surveys.

SAMHSA supports nationwide Communities Talk activities every year. Collecting data on each round of Communities Talk activities and using this information to inform policy and measure impact connects with SAMHSA's Strategic Plan FY2019-FY2023, specifically “Objective 3.2: Expand community engagement around substance use prevention, treatment, and recovery” (SAMHSA, 2018). Communities Talk activities are intended to work at the grassroots level to raise awareness of the public health dangers of drinking alcohol and other drug misuse and to engage communities in evidence-based prevention. Notably, Communities Talk activities provide a forum for communities to discuss ways they can best prevent drinking alcohol and other drug misuse by reducing the availability of alcohol and other drugs, and by creating community norms that discourage demand.

SAMHSA will use the information collected to document the implementation efforts of this nationwide initiative, determine if the federally sponsored Communities Talk activities lead to additional activities within the community that are aimed at preventing and reducing drinking alcohol and other drug misuse, identify what these activities may possibly include, and help plan for future rounds of Communities Talk events. SAMHSA intends to post online a summary document of each round of Communities Talk activities and present findings at national conferences attended by CBOs and IHEs that have hosted these activities and might host future activities. Similarly, SAMHSA plans to share findings with the Interagency Coordinating Committee on the Prevention of Underage Drinking. Agencies within this committee encourage their grantees to participate as the activity hosts. Additionally, the information collected will support performance measurement for SAMHSA programs under the Government Performance Results Act (GPRA).

Data Collection Component

SAMHSA/CSAP will use a web-based method, such as Voxco, to collect data through the Organizer Survey. The web-based application will comply with the requirements of Section 508 of the Rehabilitation Act to permit accessibility to people with disabilities. On an annual basis, the Organizer Survey—Initial will be completed by an estimated 500 Communities Talk activity organizers and will require only one response per respondent. It will take an average of 15 minutes (0.25 hours) to review the instructions and complete the survey. This burden estimate is based on comments from three 2019 Communities Talk activity organizers who reviewed the survey and provided comments on how long it would take them to complete it.

Estimated Annualized Burden Table
Form name | Number of respondents | Responses per respondent | Total responses | Hours per response | Total hour burden
Organizer Survey—Initial | 500 | 1 | 500 | 0.25 | 125
Total | 500 |  | 500 |  | 125

Send comments to Carlos Graham, SAMHSA Reports Clearance Officer, 5600 Fisher Lane, Room 15E57A, Rockville, MD 20852 OR email him a copy at carlos.graham@samhsa.hhs.gov. Written comments should be received by October 13, 2023.

Alicia Broadus,
Public Health Adviser.

[FR Doc. 2023-17393 Filed 8-11-23; 8:45 am]

BILLING CODE 4162-20-P